ENVIRONMENTAL PROTECTION AGENCY

[FRL-6925-8]

Agency Information Collection Activities: Submission for OMB Review; Comment Request; Modification to Mobile Source Emission Factor Survey

AGENCY: Environmental Protection Agency (EPA).

ACTION: Notice.

SUMMARY: In compliance with the Paperwork Reduction Act (44 U.S.C. 3501 et seq.), this document announces that the following amended Information Collection Request (ICR) has been forwarded to the Office of Management and Budget (OMB) for review and approval: Mobile Source Emission Factor Survey, OMB Control Number 2060-0078 that expires on June 30, 2003. The amended ICR describes the nature of the information collection and its expected burden and cost; where appropriate, it includes the actual data collection instrument.

DATES: Comments must be submitted on or before January 29, 2001.

ADDRESSES: Send comments, referencing EPA ICR No. 0619.09 and OMB Control No. 2060-0078, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epa.gov, or download off the Internet at http://www.epa.gov/icr and refer to EPA ICR No. 0619.09. For technical questions about the ICR contact Penny Carey at EPA by phone at (734) 214-4355, or by E-mail at Carey.Penny@epa.gov.

SUPPLEMENTARY INFORMATION: Title: “Mobile Source Emission Factor Survey” (OMB Control No. 2060-0078; EPA ICR No. 0619.09 expiring on June 30, 2003. This is a request to amend a currently approved collection.

Abstract: In response to a request from Congress, the National Research Council of the National Academy of Sciences established the Committee to Review EPA's Mobile Source Emissions Factor (MOBILE) Model. The Committee was charged to evaluate MOBILE and to develop recommendations for improving the model. The Committee also examined EPA's NONROAD emissions model. With regard to improving MOBILE, the Committee recommended that EPA should develop a program to enable more accurate determination of in-use emissions, using more real-world approaches such as direct emissions monitoring systems. With regard to improving NONROAD, the Committee recommended that EPA develop a plan for compiling needed data, to include population and activity data and real-world emission factors.

The EPA Office of Transportation and Air Quality, Assessment and Standards Division, through contractors, intends to solicit the general public to voluntarily participate in survey and testing activities involving mobile sources. EPA will use the information from this survey and testing to provide inputs to various emission models. These models are used by EPA, state and local air pollution agencies, the automotive industry, and other parties that are interested in estimating mobile source emissions. These models provide a basis for developing State Implementation Plans (SIPs), Reasonable Further Progress (RFP) reports, and attainment status assessments for the National Ambient Air Quality Standards (NAAQS). The legislative basis for gathering this data is section 103(a)(1)(2)(3) of the Clean Air Act, which requires the Administrator to “conduct * * * research, investigations, experiments, demonstrations, surveys, and studies relating to the causes, effects, extent, prevention, and control of air pollution” and “conduct investigations and research and make surveys concerning any specific problem of air pollution in cooperation with any air pollution control agency * * * ”

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on September 22, 2000 (65 FR 57335) and no comments were received.

Burden Statement: The annual public reporting and record keeping burden for this collection of information is estimated to average 1.3 hours per response hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: The general public and a few businesses that own on-highway vehicles and nonroad equipment.

Estimated Number of Respondents: 52,300.

Frequency of Response: Quarterly and annually.

Estimated Total Annual Hour Burden: 48,510.

Estimated Total Annualized Capital, O&M Cost Burden: $0.

Send comments on the Agency's need for this information, the accuracy of the provided burden estimates, and any suggested methods for minimizing respondent burden, including through the use of automated collection techniques to the addresses listed above. Please refer to EPA ICR No. 0619.09 and OMB Control No. 2060-0078 in any correspondence.

Changes in Burden: Because this ICR is being modified to include an expanded data collection program, the burden hours has increased from 1,649 to 48,510.

Dated: December 21, 2000.
Oscar Morales,
Director, Collection Strategies Division.

[FR Doc. 00-33358 Filed 12-28-00; 8:45 am]

BILLING CODE 6560-50-P